DEPARTMENT OF THE TREASURY

Agency Information Collection Activities; Submission for OMB Review; Comment Request; Certification of Material Events Form

AGENCY: Departmental Offices, U.S. Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before September 29, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFI Fund)

1. Title: Certification of Material Events Form.

OMB Control Number: 1559-0037.

Type of Request: Revision of a currently approved collection.

Description: This information collection captures information related to specified Material Events that Certified CDFIs, Recipients and/or Allocatees are required to report per applicable Certification, Assistance, Award, Allocation, or Bond Loan Agreement for Bank Enterprise Award Program, Capital Magnet Fund Program, CDFI Bond Guarantee Program, CDFI Equitable Recovery Program, CDFI Rapid Response Program, New Markets Tax Credit Program, Small Dollar Loan Program, and/or CDFI Program/Native American CDFI Assistance Program, including Technical Assistance, Financial Assistance, Healthy Food Financing Initiative Financial Assistance Disability Funds Financial Assistance, Persistent Poverty Counties Financial Assistance and Housing Production Financial Assistance. The revised form requires entities to indicate their Material Event, explain the event, and describe their organization's response.

Form: CDFI Form 0036.

Affected Public: CDFIs and CDEs; including business or other for-profit institutions, non-profit entities, and State, local and Tribal entities participating in CDFI Fund programs.

Estimated Number of Respondents: 325.

Frequency of Response: On occasion.

Estimated Total Number of Annual Responses: 650.

Estimated Time per Response: 15 minutes.

Estimated Total Annual Burden Hours: 163.

Authority: 44 U.S.C. 3501 et seq.

Spencer W. Clark,
Treasury PRA Clearance Officer.

[FR Doc. 2025-16665 Filed 8-28-25; 8:45 am]

BILLING CODE 4810-70-P